DEPARTMENT OF HOMELAND SECURITY

U.S. Customs and Border Protection

[Docket No. USCBP-2022-0035]

Commercial Customs Operations Advisory Committee

AGENCY: U.S. Customs and Border Protection (CBP), Department of Homeland Security (DHS).

ACTION: Committee management; notice of federal advisory committee meeting.

SUMMARY: The Commercial Customs Operations Advisory Committee (COAC) will hold its quarterly meeting on Wednesday, September 14, 2022, in Chicago, Illinois. The meeting will be open for the public to attend in person or via webinar. Due to COVID-19 restrictions, the in-person capacity is limited to 75 persons for public attendees.

DATES: The COAC will meet on Wednesday, September 14, 2022, from 2:00 p.m. to 6:00 p.m. EDT/1:00 p.m. to 5:00 p.m. CDT. Please note that the meeting may close early if the committee has completed its business. Registration to attend and comments must be submitted no later than September 9, 2022.

ADDRESSES: The meeting will be held at the Hilton Chicago O'Hare Airport, International Ballroom, located on the Lower Level, 10000 W Balmoral Ave., Chicago, IL 60666. For virtual participants, the webinar link and conference number will be provided to all registrants by 9:00 a.m. EDT on September 13, 2022. For information or to request special assistance for the meeting, contact Mrs. Latoria Martin, Office of Trade Relations, U.S. Customs and Border Protection, at (202) 344-1440 as soon as possible.

Comments may be submitted by one of the following methods:

• Federal eRulemaking Portal: http://www.regulations.gov. Search for Docket Number USCBP-2022-0035. To submit a comment, click the “Comment” button located on the top-right hand side of the docket page.

• Email: tradeevents@cbp.dhs.gov. Include Docket Number USCBP-2022-0035 in the subject line of the message.

Comments must be submitted in writing no later than September 9, 2022, and must be identified by Docket No. USCBP-2022-0035. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice which is available via a link on the homepage of www.regulations.gov.

See SUPPLEMENTARY INFORMATION for file formats and other information about electronic filing.

FOR FURTHER INFORMATION CONTACT: Mrs. Latoria Martin, Office of Trade Relations, U.S. Customs and Border Protection, 1300 Pennsylvania Avenue NW, Room 3.5A, Washington, DC 20229, (202) 344-1440; or Ms. Valarie M. Neuhart, Designated Federal Officer, at (202) 344-1440.

SUPPLEMENTARY INFORMATION: Notice of this meeting is given under the authority of the Federal Advisory Committee Act, 5 U.S.C. appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-Registration: Meeting participants may attend either in person or via webinar. All participants must register using one of the methods indicated below:

For members of the public who plan to participate in person, please register online at https://teregistration.cbp.gov/index.asp?w=291 by 5:00 p.m. EDT on September 9, 2022. For members of the public who are pre-registered to attend the meeting in person and later need to cancel, please do so by 5:00 p.m. EDT September 9, 2022, utilizing the following link: https://teregistration.cbp.gov/cancel.asp?w=291.

For members of the public who plan to participate via webinar, please register online at https://teregistration.cbp.gov/index.asp?w=292 by 5:00 p.m. EDT on September 9, 2022. For members of the public who are pre-registered to attend the meeting via webinar and later need to cancel, please do so by 5:00 p.m. EDT September 9, 2022, utilizing the following link: https://teregistration.cbp.gov/cancel.asp?w=292.

The COAC is committed to ensuring all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be multiple public comment periods held during the meeting on September 14, 2022. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed for its working groups. The Antidumping/Countervailing Duty (AD/CVD) Working Group will provide updates regarding its work and discussions on importer compliance with AD/CVD requirements. The Intellectual Property Rights Process Modernization Working Group will provide updates regarding the next steps for the work projects, developed by the group, to complete a review of the IPR Priority Trade Issue web page and discuss the manipulation of shipments. The Bond Working Group will report the ongoing discussions and status updates for eBond requirements and the Forced labor Working Group will provide an update on the progress and plans for the group.

2. The Next Generation Facilitation Subcommittee will provide updates on its task forces and working groups, including an update on the progress of the 21st Century Customs Framework (21CCF) and E-Commerce Task Forces, and it is expected there will be recommendations for the full committee's consideration in both areas. The Automated Commercial Environment (ACE) 2.0 Working Group will present recommendations for the full committee's consideration stemming from the in-depth gap analysis and potential vendor demonstrations of areas that may be improved when CBP embarks on ACE 2.0 modernization. Finally, the One U.S. Government Working Group will provide an update on the work planned for upcoming quarters of the 16th Term of the COAC.

3. The Rapid Response Subcommittee will provide updates for the Domestic Manufacturing and Production (DMAP) Working Group, the Broker Modernization Working Group, and the United States-Mexico-Canada Agreement (USMCA) Working Group. CBP formed the DMAP Working Group under the Rapid Response Subcommittee to collaborate and obtain input from industry stakeholders on trade enforcement areas affecting domestic manufacturers and producers. The DMAP Working Group meets bi-weekly with the expectation that recommendations will be developed and submitted for consideration at an upcoming COAC public meeting. The Broker Modernization Working Group currently meets monthly with the expectation that recommendations will be developed and submitted for consideration at an upcoming COAC public meeting. As announced at the June 29, 2022, COAC public meeting, the USMCA Working Group is being reconvened, and will start to meet in the 4th quarter.

4. The Secure Trade Lanes Subcommittee will provide updates on the progress and plans for the Remote and Autonomous Cargo Processing Working Group and the Cross-Border Recognition Working Group, as well as provide an update on the recommendations presented in the previous quarter by the In-Bond Working Group. The Partnership Programs and Industry Engagement Working Group topics of discussion will include updates on the new focus areas the working group is pursuing relative to its recommendations last quarter related to the Forced Labor portion of the newly published Customs Trade Partnership Against Terrorism (CTPAT) Trade Compliance handbook. The Export Modernization Working Group will provide information and supporting documentation on its recommendation provided during the last public meeting, along with updates regarding the development of policies for industry and government partners regarding data collection and sharing in all modes for exportation of goods out of the United States.

Meeting materials will be available on September 2, 2022, at: http://www.cbp.gov/trade/stakeholder-engagement/coac/coac-public-meetings.

Dated: August 22, 2022.
Valarie M. Neuhart,
Deputy Executive Director, Office of Trade Relations.

[FR Doc. 2022-18347 Filed 8-24-22; 8:45 am]

BILLING CODE 9111-14-P